DEPARTMENT OF TRANSPORTATION

Federal Aviation Administration

[Docket No. 2021-1188]

Agency Information Collection Activities: Requests for Comments; Clearance of Renewed Approval of Information Collection: Notice of Proposed Construction or Alteration, Notice of Actual Construction or Alteration

AGENCY: Federal Aviation Administration (FAA), DOT.

ACTION: Notice and request for comments.

SUMMARY: In accordance with the Paperwork Reduction Act of 1995, FAA invites public comments about our intention to request the Office of Management and Budget (OMB) approval to renew an information collection. The FAA uses the information collected on form 7460-1 to determine the effect a proposed construction or alteration would have on air navigation and the National Airspace System (NAS) and the information collected on form 7460-2 to measure the progress of actual construction.

DATES: Written comments should be submitted by April 4, 2022.

ADDRESSES: Please send written comments:

By Electronic Docket: www.regulations.gov (Enter docket number into search field).

By mail: Obstruction Evaluation Group, ATTN: David Maddox, Federal Aviation Administration, 800 Independence Ave. SW, Room 400 East, Washington, DC 20591.

By fax: (202) 395-6974.

FOR FURTHER INFORMATION CONTACT: David Maddox by email at: david.maddox@faa.gov; phone: (202) 267-4525.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0001.

Title: Notice of Proposed Construction or Alteration, Notice of Actual Construction or Alteration.

Form Numbers: FAA Forms 7460-1 and 7460-2.

Type of Review: Renewal of an information collection.

Background: 49 U.S.C. Section 44718 states that the Secretary of Transportation shall require notice of structures that may affect navigable airspace, air commerce, or air capacity. These notice requirements are contained in 14 CFR 77. The information is collected via FAA Forms 7460-1 and 7460-2.

Respondents: Approximately 85,000 registered respondents including individuals or organizations that propose construction or alteration projects and are required to provide adequate notification to the FAA of that construction or alteration.

Frequency: Information is collected on occasion.

Estimated Average Burden per Response: Approximately 15 Minutes.

Estimated Total Annual Burden: 55,058 hours.

Issued in Washington, DC, on December 13, 2021.
Michael Helvey,
Obstruction Evaluation Group Manager, AJV-A500.

[FR Doc. 2022-02188 Filed 2-2-22; 8:45 am]

BILLING CODE 4910-13-P